INTERNATIONAL TRADE COMMISSION

[USITC SE-00-053]

Sunshine Act Meeting

Agency Holding the Meeting: International Trade Commission.

Time and Date: December 12, 2000 at 11 a.m.

Place: Room 101, 500 E Street SW., Washington, DC 20436, Telephone: (202) 205-2000.

Status: Open to the public.

Matters to be Considered:

1. Agenda for future meeting: none.

2. Minutes.

3. Ratification List.

4. Inv. No. 731-TA-861 (Final) (Certain Expandable Polystyrene Resins from Indonesia)—briefing and vote. (The Commission is currently scheduled to transmit its determination and Commissioners' opinions to the Secretary of Commerce on December 20, 2000.)

5. Outstanding action jackets: none.

In accordance with Commission policy, subject matter listed above, not disposed of at the scheduled meeting, may be carried over to the agenda of the following meeting.

Issued: November 30, 2000.
By order of the Commission.
Donna R. Koehnke,
Secretary.

[FR Doc. 00-31048 Filed 12-1-00; 2:39 pm]

BILLING CODE 7020-02-M